DEPARTMENT OF COMMERCE

National Oceanic and Atmospheric Administration

RTID 0648-XB431

Meeting on the Stock Status of Western Atlantic Bluefin Tuna

AGENCY: National Marine Fisheries Service (NMFS), National Oceanic and Atmospheric Administration (NOAA), Commerce.

ACTION: Notice of virtual public meeting.

SUMMARY: NMFS is holding a public webinar for the Advisory Committee to the U.S. Section to the International Commission for the Conservation of Atlantic Tunas (ICCAT) and other interested stakeholders to provide an update on recent work by ICCAT's Standing Committee on Research and Statistics (SCRS) Bluefin Tuna Species Group to assess the western Atlantic stock of bluefin tuna.

DATES: A webinar information session that is open to the public will be held on September 30, 2021, from 1:30 p.m. to 3 p.m. EDT.

ADDRESSES: Please register to attend the webinar at: https://forms.gle/zYfNx5gd3dud4Hfm8. Registration will close on September 29, 2021 at 5 p.m. EDT. Instructions will be emailed to registered participants.

FOR FURTHER INFORMATION CONTACT: Rachel O'Malley, Office of International Affairs and Seafood Inspection, (301) 427-8373 or at Rachel.O'Malley@noaa.gov.

SUPPLEMENTARY INFORMATION: ICCAT's SCRS held a virtual stock assessment meeting for the western stock of Atlantic bluefin tuna from August 31 to September 1, 2021; it was immediately followed by a virtual meeting of the SCRS' Bluefin Tuna Species Group to consider the results. The assessment work is considered preliminary until adopted by the SCRS during its plenary meeting starting in late September. At that time, the SCRS will also adopt management advice for western Atlantic bluefin tuna to provide to the Commission. NMFS scientists will provide the Advisory Committee and other interested stakeholders with an update on the assessment work at the September 30, 2021, webinar, where participants will have an opportunity to ask questions. NMFS will announce the timing and format for the question and answer period at the beginning of the webinar.

The webinar is specifically an update on the stock assessment progress and not on development of U.S. positions for ICCAT. A Fall meeting of the Advisory Committee to the U.S. Section to ICCAT will be held in October after the stock assessment results and SCRS management advice have been finalized and published. The October meeting is for the express purpose of providing information relevant to the development of possible positions to be taken by the United States at ICCAT regarding bluefin tuna conservation and management and other important topics.

Authority: 16 U.S.C. 971 et seq.; 16 U.S.C. 1801 et seq.

Dated: September 23, 2021.
Alexa Cole,
Director, Office of International Affairs and Seafood Inspection, National Marine Fisheries Service.

[FR Doc. 2021-21057 Filed 9-23-21; 4:15 pm]

BILLING CODE 3510-22-P